DEPARTMENT OF ENERGY

Federal Energy Regulatory Commission

[Docket No. CP08-95-000]

Northern Natural Gas Company; Notice of Request Under Blanket Authorization

March 24, 2008.

Take notice that on March 18, 2008, Northern Natural Gas Company (Northern), 1111 South 103rd Street, Omaha, Nebraska 68124, filed in Docket No. CP08-95-000, a prior notice request pursuant to sections 157.205, 157.208, 157.210, and 157.211 of the Federal Energy Regulatory Commission's regulations under the Natural Gas Act for authorization to install and operate the East Leg I Project, located within the state of Iowa, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, Northern proposes to install and operate: (i) Approximately one mile of a 30-inch diameter mainline extension to the existing Ogden-Waterloo D-Line, located in Boone and Story Counties, Iowa; (ii) approximately five miles of a 6-inch diameter branch line loop on the existing 4-inch diameter Clarksville branch line, located in Bremer and Butler Counties, Iowa; (iii) approximately two miles of an 8-inch diameter greenfield branch line, located in Butler County, Iowa; (iv) a new meter station, the Hawkeye Shell Rock Meter Station, located in Butler County, Iowa; and (v) appurtenant section 2.55(a) facilities. Northern estimates the cost of construction to be $6,898,319. Northern states that the modifications proposed are necessary to meet the Hawkeye Shell Rock and Aquila, Inc. requests for firm capacity totaling 12.5 MMcf/d, effective September 1, 2008 and November 1, 2008, respectively.

Any questions regarding the application should be directed to Michael T. Loeffler, Senior Director, Certificates and External Affairs, Northern Natural Gas Company, 1111 South 103rd Street, Omaha, Nebraska 68124, call (402) 398-7103 or Donna Martens, Senior Regulatory Analyst, at (402) 398-7138.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the internet in lieu of paper. See 18 C.F.R. 385.2001(a)(1)(iii) and the instructions on the Commission's Web site (http://www.ferc.gov) under the “e-Filing” link.

Kimberly D. Bose,
Secretary.

[FR Doc. E8-6417 Filed 3-27-08; 8:45 am]

BILLING CODE 6717-01-P